DEPARTMENT OF ENERGY

Federal Energy Regulatory Commission

[Project No. 5737-031]

Santa Clara Valley Water District; Notice of Reservoir Drawdown and Operations Plan Amendment Accepted for Filing and Soliciting Comments, Motions To Intervene, and Protests

Take notice that the following hydroelectric plan has been filed with the Commission and is available for public inspection:

a. Filing Type: Amendment to Reservoir Drawdown and Operations Plan.

b. Project No: 5737-031.

c. Date Filed: September 14, 2023; supplemented November 2, 2023.

d. Applicant: Santa Clara Valley Water District.

e. Name of Project: Anderson Dam Hydroelectric Project.

f. Location: The project is located on Coyote Creek in Santa Clara County, CA.

g. Filed Pursuant to: Public Utility Regulatory Policies Act of 1978, 16 U.S.C. 2705, 2708.

h. Applicant Contact: Ryan McCarter, (408) 630-2983, rmccarter@valleywater.org.

i. FERC Contact: Steven Sachs, (202) 502-8666, Steven.Sachs@ferc.gov.

j. Cooperating agencies: With this notice, the Commission is inviting Federal, State, local, and Tribal agencies with jurisdiction and/or special expertise with respect to environmental issues affected by the proposal, that wish to cooperate in the preparation of any environmental document, if applicable, to follow the instructions for filing such requests described in item k below. Cooperating agencies should note the Commission's policy that agencies that cooperate in the preparation of any environmental document cannot also intervene. See 94 FERC ¶ 61,076 (2001).

k. Deadline for filing comments, motions to intervene, and protests: January 17, 2024.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include the docket number P-5737-031. Comments emailed to Commission staff are not part of the Commission record.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

l. Description of Request: Pursuant to a Commission dam safety directive and its approved Reservoir Drawdown and Operations Plan (Plan), the applicant has been operating Anderson Reservoir at its deadpool elevation, historically identified as a water surface elevation of 488 feet North American Vertical Datum of 1988 (NAVD88). In its current filings, the applicant states newer surveys indicate the deadpool water surface elevation is 490 feet NAVD88 and it wishes to revise the Plan to reflect the correct number. The applicant also proposes to operate the reservoir at an elevation 2 feet above deadpool, i.e., 492 feet NAVD88, to have stored water available for prompt releases to protect downstream aquatic habitat in Coyote Creek when other water sources are unavailable. Furthermore, when drawing down the reservoir back to 492 feet NAVD88 after large rainstorms that cause it to rise, the applicant proposes to ramp down releases by approximately 25 to 50 percent every 12 hours as the reservoir surface declines from elevations 493.5 to 492 feet NAVD88 while consulting with the National Marine Fisheries Service to determine the precise downramping schedule.

m. Locations of the revised Plan: This filing may be viewed on the Commission's website at http://www.ferc.gov using the “eLibrary” link. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659.

n. Individuals desiring to be included on the Commission's mailing list should so indicate by writing to the Secretary of the Commission.

o. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

p. Filing and Service of Documents: Any filing must: (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

q. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: December 18, 2023.
Debbie-Anne A. Reese,
Deputy Secretary.

[FR Doc. 2023-28260 Filed 12-21-23; 8:45 am]

BILLING CODE 6717-01-P